DEPARTMENT OF HOMELAND SECURITY

Coast Guard

33 CFR Part 117

[Docket No. USCG-2015-0366]

Drawbridge Operation Regulation; Navesink (Swimming) River, Middletown and Rumson, NJ

AGENCY: Coast Guard, DHS.

ACTION: Notice of deviation from drawbridge regulation.

SUMMARY: The Coast Guard has issued a temporary deviation from the operating schedule that governs the operation of the Oceanic Bridge across the Navesink (Swimming) River, mile 4.5, between Middletown and Rumson, New Jersey. This deviation allows the bridge owner to perform structural repairs at the bridge. This deviation allows the bridge to open only one of the two moveable spans for passage of vessels traffic. This temporary deviation would help facilitate repairs to the bascule span bearing while continuing to meet the reasonable needs of navigation.

DATES: This deviation is effective from May 26, 2015 through June 12, 2015.

ADDRESSES: The docket for this deviation, [USCG-2015-0366] is available at http://www.regulations.gov. Type the docket number in the “SEARCH” box and click “SEARCH.” Click on Open Docket Folder on the line associated with this deviation. You may also visit the Docket Management Facility in Room W12-140, on the ground floor of the Department of Transportation West Building, 1200 New Jersey Avenue SE., Washington, DC 20590, between 9 a.m. and 5 p.m., Monday through Friday, except Federal holidays.

FOR FURTHER INFORMATION CONTACT: If you have questions on this temporary deviation, call or email Mr. Joe M. Arca, Project Officer, First Coast Guard District, telephone (212) 514-4336, joe.m.arca@uscg.mil. If you have questions on viewing the docket, call Ms. Cheryl Collins, Program Manager, Docket Operations, telephone (202) 366-9826.

SUPPLEMENTARY INFORMATION: The Oceanic Bridge across Navesink (Swimming) River, mile 4.5, between Middletown and Rumson, New Jersey, has a vertical clearance in the closed position of 22 feet at mean high water and 25 feet at mean low water, and horizontal clearance of 75 feet. The existing bridge operating regulations are found at 33 CFR 117.734.

The waterway is transited by seasonal recreational vessels of various sizes.

The bridge owner, Monmouth County, requested a temporary deviation from the normal operating schedule to facilitate repairs to the bascule span bearing.

Under this temporary deviation the Oceanic Bridge shall open on signal, except that, from May 26, 2015 through June 12, 2015, only one of the two moveable spans need open for the passage of vessels traffic.

There are no alternate routes for vessel traffic.

The Coast Guard will inform the users of the waterways through our Local and Broadcast Notice to Mariners of the change in operating schedule for the bridges so that vessels can arrange their transits to minimize any impact caused by the temporary deviation.

In accordance with 33 CFR 117.35(e), the drawbridge must return to its regular operating schedule immediately at the end of the effective period of this temporary deviation. This deviation from the operating regulations is authorized under 33 CFR 117.35.

Dated: April 30, 2015.
C.J. Bisignano,
Supervisory Bridge Management Specialist, First Coast Guard District.

[FR Doc. 2015-11188 Filed 5-7-15; 8:45 am]

BILLING CODE 9110-04-P